DEPARTMENT OF TRANSPORTATION

Federal Aviation Administration

14 CFR Part 39

[Docket No. FAA-2010-1039; Directorate Identifier 2010-NM-002-AD]

RIN 2120-AA64

Airworthiness Directives; Bombardier, Inc. Model CL-600-2B19 (Regional Jet Series 100 & 440) Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

There has been numerous reported failures of the Regional Jet engine TCGB [throttle control gearbox] P/Ns: 2100140-003, 2100140-005 & 2100140-007. Some of these failures have resulted in in-flight engine shutdowns. Post incident investigations revealed that excessive wear within the engine TCGB could alter the rigging position or cause the throttle to jam. With the rigging position altered, movement of the throttle lever towards the idle position can result in throttle moving too close to the fuel shut-off position, which potentially, can cause the engine to flame out.

* * * * *

The proposed AD would require actions that are intended to address the unsafe condition described in the MCAI.

DATES: We must receive comments on this proposed AD by December 6, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Rocco Viselli, Senior Aviation Safety Engineer, Avionic & Flight Test Branch, ANE-172, FAA, New York Aircraft Certification Office, 1600 Stewart Avenue, Suite 410, Westbury, New York 11590; telephone (516) 228-7331; fax (516) 794-5531.

SUPPLEMENTARY INFORMATION:

Comments Invited

We invite you to send any written relevant data, views, or arguments about this proposed AD. Send your comments to an address listed under the ADDRESSES section. Include “Docket No. FAA-2010-1039; Directorate Identifier 2010-NM-002-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 8, 2005, we issued AD 2005-06-04, Amendment 39-14012 (70 FR 12963, March 17, 2005). That AD required actions intended to address an unsafe condition on the products listed above.

Since we issued AD 2005-06-04, the inspection for the throttle control gearbox (TCGB) required by that AD has been transcribed in a new certification maintenance requirement (CMR) task. This NPRM proposes to mandate the incorporation of the new CMR task into the CL-600-2B19 maintenance requirements manual (MRM) as introduced by the MRM temporary revision 2A-47. Transport Canada Civil Aviation, which is the aviation authority for Canada, has issued Canadian Airworthiness Directive CF-2004-01R2, dated September 29, 2009 (referred to after this as “the MCAI”), to correct an unsafe condition for the specified products. The MCAI states:

There has been numerous reported failures of the Regional Jet engine TCGB P/Ns: 2100140-003, 2100140-005 & 2100140-007. Some of these failures have resulted in in-flight engine shutdowns. Post incident investigations revealed that excessive wear within the engine TCGB could alter the rigging position or cause the throttle to jam. With the rigging position altered, movement of the throttle lever towards the idle position can result in throttle moving too close to the fuel shut-off position, which potentially, can cause the engine to flame out.

Bombardier issued Service Bulletin (SB) 601R-76-019 dated 21 August 2003, to introduce an inspection of, and if required, replacement of the throttle control gearbox with a serviceable unit. AD CF-2004-01 was originally issued to mandate the subject inspection requirement as per SB 601R-76-019 and subsequent revisions.

The subject TCGB inspection requirements mandated as per the earlier versions of this AD, are now transcribed in a new Certification Maintenance Requirement (CMR) task. This revision is issued to mandate the incorporation of the new CMR task into the CL-600-2B19 Maintenance Requirements Manual (MRM), as introduced by the MRM Temporary Revision (TR) 2A-47.

You may obtain further information by examining the MCAI in the AD docket.

Relevant Service Information

Bombardier has issued Service Bulletin 601R-76-019, Revision B, dated February 16, 2005; and Service Bulletin 601R-76-019, Revision C, dated July 5, 2007. Bombardier has also issued Temporary Revision 2A-47, dated May 27, 2009, to Appendix A—Certification Maintenance Requirements, of Part 2 of the Bombardier CL-600-2B19 Maintenance Requirements Manual. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 638 products of U.S. registry.

The actions that are required by AD 2005-06-04 and retained in this proposed AD take about 7 work-hours per product. The average labor rate is $85 per work-hour. Based on these figures, we estimate the cost of the requirements retained in this proposed AD on U.S. operators to be $379,610, or $595 per product

We estimate that it would take about 1 work-hour per product to comply with the new basic requirements of this proposed AD. The average labor rate is $85 per work-hour. Based on these figures, we estimate the cost of the new basic requirements in this proposed AD on U.S. operators to be $54,230, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14012 (70 FR 12963, March 17, 2005) and adding the following new AD:

Bombardier, Inc.: Docket No. FAA-2010-1039; Directorate Identifier 2010-NM-002-AD.

Comments Due Date

(a) We must receive comments by December 6, 2010.

Affected ADs

(b) The AD supersedes AD 2005-06-04, Amendment 39-14012.

Applicability

(c) This AD applies to Bombardier, Inc. Model CL-600-2B19 (Regional Jet Series 100 & 440) airplanes, certificated in any category, having an engine throttle control gearbox (TCGB) with part number 2100140-003, 2100140-005, or 2100140-007 installed.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (m)(1) of this AD. The request should include a description of changes to the required inspections that will ensure the continued operational safety of the airplane.

Subject

(d) Air Transport Association (ATA) of America Code 76: Engine Controls.

Reason

(e) The mandatory continuing airworthiness information (MCAI) states:

There has been numerous reported failures of the Regional Jet engine TCGB P/Ns: 2100140-003, 2100140-005 & 2100140-007. Some of these failures have resulted in in-flight engine shutdowns. Post incident investigations revealed that excessive wear within the engine TCGB could alter the rigging position or cause the throttle to jam. With the rigging position altered, movement of the throttle lever towards the idle position can result in throttle moving too close to the fuel shut-off position, which potentially, can cause the engine to flame out.

Bombardier issued Service Bulletin (SB) 601R-76-019 dated 21 August 2003, to introduce an inspection of, and if required, replacement of the throttle control gearbox with a serviceable unit. AD CF-2004-01 was originally issued to mandate the subject inspection requirement as per SB 601R-76-019 and subsequent revisions.

The subject TCGB inspection requirements mandated as per the earlier versions of this AD, are now transcribed in a new Certification Maintenance Requirement (CMR) task. This revision is issued to mandate the incorporation of the new CMR task into the CL-600-2B19 Maintenance Requirements Manual (MRM), as introduced by the MRM Temporary Revision (TR) 2A-47.

Compliance

(f) You are responsible for having the actions required by this AD performed within the compliance times specified, unless the actions have already been done.

Restatement of Requirements of AD 2005-06-04, With New Service Information

Inspection

(g) For airplanes having serial numbers (S/Ns) 7003 through 7067 inclusive, and 7069 and subsequent: At the applicable time specified in paragraph (g)(1) or (g)(2) of this AD, do a detailed inspection for wear of the left and right engine throttle control gearboxes having part number (P/N) 2100140-005 or 2100140-007 by doing all the actions per Part A, paragraphs A., B., and C.(1) through C.(4), of the Accomplishment Instructions of Bombardier Service Bulletin 601R-76-019, dated August 21, 2003; Revision `A,' dated February 19, 2004; Revision B, dated February 16, 2005; or Revision C, dated July 5, 2007. If the wear value is the same as that specified in Part A, paragraph B.(8), of the Accomplishment Instructions of Bombardier Service Bulletin 601R-76-019, dated August 21, 2003; Revision `A,' dated February 19, 2004; Revision B, dated February 16, 2005; or Revision C, dated July 5, 2007: Repeat the inspection thereafter at intervals not to exceed 1,000 flight hours. As of the effective date of this AD, only Bombardier Service Bulletin 601R-76-019, Revision C, dated July 5, 2007, may be used. Doing the inspection required by paragraph (k) of this AD terminates the requirement in this paragraph.

(1) For airplanes having S/Ns 7003 through 7067 inclusive and 7069 through 7999 inclusive: Within 1,000 flight hours or 90 days after March 25, 2004 (the effective date of AD 2004-05-12), whichever is later.

(2) For airplanes having S/Ns 8000 and subsequent: Within 1,000 flight hours or 90 days after April 1, 2005 (the effective date of AD 2005-06-04), whichever is later.

Note 2: For the purposes of this AD, a detailed inspection is: “An intensive visual examination of a specific structural area, system, installation, or assembly to detect damage, failure, or irregularity. Available lighting is normally supplemented with a direct source of good lighting at an intensity deemed appropriate by the inspector. Inspection aids such as mirror, magnifying lenses, etc., may be used. Surface cleaning and elaborate access procedures may be required.”

Corrective Action

(h) If the wear value found during any inspection required by paragraph (g) of this AD is not the same as that specified in Part A, paragraph B.(8), of the Accomplishment Instructions of Bombardier Service Bulletin 601R-76-019, dated August 21, 2003; Revision `A,' dated February 19, 2004; Revision B, dated February 16, 2005; or Revision C, dated July 5, 2007: Do the applicable actions required by paragraph (h)(1), (h)(2), or (h)(3) of this AD, at the time specified, per the Accomplishment Instructions of Bombardier Service Bulletin 601R-76-019, dated August 21, 2003; Revision `A,' dated February 19, 2004; Revision B, dated February 16, 2005; or Revision C, dated July 5, 2007. Repeat the inspection required by paragraph (g) of this AD thereafter at intervals not to exceed 1,000 flight hours. As the effective date of this AD, only Bombardier Service Bulletin 601R-76-019, Revision C, dated July 5, 2007, may be used. Doing the inspection required by paragraph (k) of this AD terminates the inspection requirements of this paragraph.

(1) If the wear value on one or both of the gearboxes is the same as that specified in Part A, paragraph B.(5), of the Accomplishment Instructions of Bombardier Service Bulletin 601R-76-019, dated August 21, 2003; Revision `A,' dated February 19, 2004; Revision B, dated February 16, 2005; or Revision C, dated July 5, 2007: Before further flight, replace the affected gearbox with a new or serviceable gearbox, by doing all the actions per Part B, paragraphs D. through F.(7) of the Accomplishment Instructions of Bombardier Service Bulletin 601R-76-019, dated August 21, 2003; Revision `A,' dated February 19, 2004; Revision B, dated February 16, 2005; or Revision C, dated July 5, 2007. As the effective date of this AD, only Bombardier Service Bulletin 601R-76-019, Revision C, dated July 5, 2007, may be used.

(2) If the wear value on both the left and right gearboxes is the same as that specified in Part A, paragraph B.(6), of Bombardier Service Bulletin 601R-76-019, dated August 21, 2003; Revision `A,' dated February 19, 2004; Revision B, dated February 16, 2005; or Revision C, dated July 5, 2007: Before further flight, replace the gearbox having the higher wear value with a new or serviceable gearbox, by doing all the actions per Part B, paragraphs D. through F.(7), of the Accomplishment Instructions of Bombardier Service Bulletin 601R-76-019, dated August 21, 2003; Revision `A,' dated February 19, 2004; Revision B, dated February 16, 2005; or Revision C, dated July 5, 2007. Within 1,000 flight hours after doing the replacement, replace the other gearbox. As the effective date of this AD, only Bombardier Service Bulletin 601R-76-019, Revision C, dated July 5, 2007, may be used.

(3) If the wear value on only one gearbox is the same as that specified in Part A, paragraph B.(7), and the wear value on the other gearbox is the same as that specified in Part A, paragraph B.(8), of the Accomplishment Instructions of Bombardier Service Bulletin 601R-76-019, dated August 21, 2003; Revision `A,' dated February 19, 2004; Revision B, dated February 16, 2005; or Revision C, dated July 5, 2007: Within 1,000 flight hours after the inspection, replace the gearbox with the wear value that is the same as that specified in Part A, paragraph B.(7), with a new or serviceable gearbox. Do the replacement by doing all the actions per Part B, paragraphs D. through F.(7), of the Accomplishment Instructions of Bombardier Service Bulletin 601R-76-019, dated August 21, 2003; Revision `A,' dated February 19, 2004; Revision B, dated February 16, 2005; or Revision C, dated July 5, 2007. As the effective date of this AD, only Bombardier Service Bulletin 601R-76-019, Revision C, dated July 5, 2007, may be used.

Additional Guidance

Note 3: Bombardier Service Bulletin 601R-76-019, dated August 21, 2003; Revision `A,' dated February 19, 2004; Revision B, dated February 16, 2005; or Revision C, dated July 5, 2007; reference Trans Digm, Inc., AeroControlex Group, Service Bulletin 2100140-007-76-04, dated July 22, 2003, as an additional source of guidance for accomplishment of the inspections and replacement.

Reporting Requirement

(i) At the applicable time specified in paragraph (i)(1) or (i)(2) of this AD, submit a report of gearbox wear to Bombardier Aerospace, In-Service Engineering (Engine Group); fax (514) 855-7708. The report must include the airplane serial number, the number of flight hours on the airplane, and the number of flight hours on each gearbox (if different than the number of flight hours on the airplane). Under the provisions of the Paperwork Reduction Act of 1980 (44 U.S.C. 3501 et seq.), the Office of Management and Budget (OMB) has approved the information collection requirements contained in this AD and has assigned OMB Control Number 2120-0056.

(1) For Bombardier Model CL-600-2B19 (Regional Jet Series 100 & 440) airplanes, serial numbers 7003 through 7067 inclusive, and 7069 through 7999 inclusive: Submit a report within 10 days after doing the inspection required by paragraph (g) of this AD, or within 10 days after March 25, 2004, whichever is later.

(2) For Bombardier Model CL-600-2B19 (Regional Jet Series 100 & 440) airplanes, serial numbers 8000 and subsequent: Submit a report within 10 days after doing the inspection required by paragraph (g) of this AD, or within 10 days after April 1, 2005 (the effective date of AD 2005-06-04), whichever is later.

New Requirements of This AD

Actions

(j) For all airplanes: Within 30 days as the effective date of this AD, revise the Airworthiness Limitations (AWL) section of the Instructions for Continued Airworthiness to include the information in Bombardier Temporary Revision 2A-47, dated May 27, 2009, to Appendix A—Certification Maintenance Requirements, of Part 2 of the Bombardier CL-600-2B19 Maintenance Requirements Manual.

Note 4: The actions required by paragraph (j) of this AD may be done by inserting a copy of Bombardier Temporary Revision 2A-47, dated May 27, 2009, into the AWL section of Appendix A—Certification Maintenance Requirements, of Part 2 of the Bombardier CL-600-2B19 Maintenance Requirements Manual. When this temporary revision has been included in the limitation section of the general revisions of the document, the general revisions may be inserted in the document, provided the relevant information in the general revision is identical to that in Bombardier Temporary Revision 2A-47, dated May 27, 2009.

(k) For the task identified in Bombardier Temporary Revision 2A-47, dated May 27, 2009, do the initial inspection within 1,000 flight hours after the effective date of this AD. Doing the initial inspection required by this paragraph terminates the requirements of paragraph (g) of this AD and the inspection requirements of paragraph (h) of this AD.

(l) Thereafter, except as provided by paragraph (m) of this AD, no alternative intervals may be approved for the task indentified in Bombardier Temporary Revision 2A-47, dated May 27, 2009, which requires a special detailed inspection of the throttle control gearbox for gear and rack teeth wear.

FAA AD Differences

Note 5: This AD differs from the MCAI and/or service information as follows: No differences.

Other FAA AD Provisions

(m) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(n) Refer to MCAI Canadian Airworthiness Directive CF-2004-01R2, dated September 29, 2009; Bombardier Service Bulletin 601R-76-019, Revision C, dated July 5, 2007; and Bombardier Temporary Revision 2A-47, dated May 27, 2009, to Appendix A—Certification Maintenance Requirements, of Part 2 of the Bombardier CL-600-2B19 Maintenance Requirements Manual; for related information.

Issued in Renton, Washington, on October 13, 2010.
John Piccola,
Acting Manager, Transport Airplane Directorate, Aircraft Certification Service.

[FR Doc. 2010-26550 Filed 10-20-10; 8:45 am]

BILLING CODE 4910-13-P